ENVIRONMENTAL PROTECTION AGENCY

40 CFR Part 300

[FRL-7905-2]

National Oil and Hazardous Substances Pollution Contingency Plan; National Priorities List

AGENCY: Environmental Protection Agency.

ACTION: Deletion of the Syosset Landfill Superfund Site from the National Priorities List.

SUMMARY: The Environmental Protection Agency (EPA) Region 2 Office announces the deletion of the Syosset Landfill Superfund Site, in the Town of Oyster Bay, Nassau County, New York from the National Priorities List (NPL). The NPL is appendix B to the National Oil and Hazardous Substances Pollution Contingency Plan (NCP), 40 CFR part 300, which EPA promulgated pursuant to section 105 of the Comprehensive Environmental Response, Compensation, and Liability Act of 1980 (CERCLA), as amended. EPA and the State of New York, through the Department of Environmental Conservation (NYSDEC), have determined that responsible parties or other persons have implemented all appropriate response actions required. In addition, EPA and the NYSDEC have determined that the remedial measures taken at the Syosset Landfill Site protect public health, welfare, and the environment.

EFFECTIVE DATE: April 28, 2005.

FOR FURTHER INFORMATION CONTACT: Sherrel D. Henry, Remedial Project Manager, U.S. Environmental Protection Agency, Region 2, 290 Broadway, 20th Floor, New York, New York 10007-1866, (212) 637-4273.

SUPPLEMENTARY INFORMATION: The site to be deleted from the NPL is: Syosset Landfill Superfund Site, Town of Oyster Bay, Nassau County, New York.

A Notice of Intent to Delete for this site was published in the Federal Register on February 15, 2005 (70 FR 7708). The closing date for comments on the Notice of Intent to Delete was March 17, 2005. No comments were received.

The EPA maintains the NPL as the list of those sites that appear to present a significant risk to public health or the environment. Sites on the NPL can have remedial actions financed by the Hazardous Substances Response Fund. As described in § 300.425(e)(3) of the NCP, any site or portion thereof deleted from the NPL remains eligible for Fund-financed remedial actions in the unlikely event that conditions at the site warrant such action in the future. Deletion of a site from the NPL does not affect responsible party liability or impede agency efforts to recover costs associated with response efforts.

List of Subjects in 40 CFR Part 300

Environmental protection, Air pollution controls, Chemicals, Hazardous substances, Hazardous waste, Intergovernmental relations, Penalties, Reporting and recordkeeping requirements, Superfund, Water pollution control, Water supply.

Dated: April 19, 2005.
George Pavlou,
Acting Regional Administrator, Region 2.

For the reasons set out in the preamble, 40 CFR part 300, is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to part 300 is amended by removing the entry “Syosset Landfill” found in the list of sites in NY State along with the city/county name “Oyster Bay.”

[FR Doc. 05-8527 Filed 4-27-05; 8:45 am]

BILLING CODE 6560-50-P